OFFICE OF PERSONNEL MANAGEMENT

5 CFR Part 353

RIN 3206-AL21

Restoration to Duty From Uniformed Service or Compensable Injury

AGENCY: Office of Personnel Management.

ACTION: Correcting amendment.

SUMMARY: The Office of Personnel Management issued final regulations on March 15, 2007 (72 FR 12032), to amend a number of rules on pay and leave administration, including use of paid leave during uniformed service. This notice corrects an omission in the final regulations and changes the title of this section to accurately reflect the content.

DATES: This correcting amendment is effective November 7, 2007, and applicable to May 14, 2007.

FOR FURTHER INFORMATION CONTACT: Brenda Roberts by telephone at (202) 606-2858; by fax at (202) 606-0824; or by e-mail at pay-performance-policy@opm.gov.

SUPPLEMENTARY INFORMATION: The Office of Personnel Management is making the following correction to § 353.208 in title 5, Code of Federal Regulations, to insert the phrase “or sick leave under 5 U.S.C. 6307, if appropriate,” which was inadvertently omitted from the final regulation. We are also changing the title of this section from “use of paid leave during uniform service” to “use of paid time off during uniform service” to accurately reflect the inclusion of compensatory time off for travel that was added to this section in the final regulation.

List of Subjects in 5 CFR Part 353

Administrative practice and procedure, Government employees.

Accordingly, 5 CFR part 353 is corrected by making the following correcting amendments:

PART 353—RESTORATION TO DUTY FROM UNIFORMED SERVICE OR COMPENSABLE INJURY

1. The authority citation for part 353 continues to read as follows:

Authority: 38 U.S.C. 4301 et seq., and 5 U.S.C. 8151.

Subpart B—Uniformed Service

2. Section 353.208 is revised to read as follows:

§ 353.208 Use of paid time off during uniformed service.

An employee performing service with the uniformed services must be permitted, upon request, to use any accrued annual leave under 5 U.S.C. 6304, military leave under 5 U.S.C. 6323, earned compensatory time off for travel under 5 U.S.C. 5550b, or sick leave under 5 U.S.C. 6307, if appropriate, during such service.

Office of Personnel Management.
Jerome D. Mikowicz,
Deputy Associate Director, Center for Pay and Leave Administration.

[FR Doc. E7-21868 Filed 11-6-07; 8:45 am]

BILLING CODE 6325-39-P